DEPARTMENT OF THE INTERIOR

Fish and Wildlife Service

Availability of Draft Comprehensive Conservation Plan and Environmental Assessment for Rydell National Wildlife Refuge, Erskine, Minnesota

AGENCY: Fish and Wildlife Service, Interior.

ACTION: Notice of availability.

SUMMARY: Pursuant to the Refuge Improvement Act of 1997, the Fish and Wildlife Service has published the Rydell National Wildlife Refuge Draft Comprehensive Conservation Plan and Environmental Assessment. The Plan describes how the Service intends to manage the Refuge for the next 15 years.

DATES: Submit written comments by August 15, 2001. All comments should be addressed to Rick Julian, Rydell National Wildlife Refuge, Route 3, Box 105, Erskine, MN 56535. Comments may also be submitted through the Service's regional website at: http://midwest.fws.gov/planning/rydtop.htm

ADDRESSES: A copy of the Plan or a summary may be obtained by writing to Rick Julian at the address above or by planing a request through the website. The plan is also posted on the Service's planning website at http://midwest.fws.gov/planning/rydelldccp.htm

FOR FURTHER INFORMATION CONTACT: For additional information contact Rick Julian at Rydell National Wildlife Refuge, Route 3, Box 105, Erskine, MN 56535; or call Mr. Julian at 218/687-2229; or direct e-mail to rick_julian@fws.gov.

SUPPLEMENTARY INFORMATION: Rydell National Wildlife Refuge includes wetlands, hardwood stands, conifer plantations, grass meadows and cropland. The Refuge was established in 1992 and today includes 2,120 acres. The diverse habitat is used by diving and dabbling ducks, geese, swans, white-tailed deer, moose, ruffed grouse, cormorants, herons, black bear, hawks and owls, among other species. The Refuge was established to protect wildlife habitat diversity, to encourage waterfowl and other migratory bird production, and to promote environmental education and recreation. In addition, the Refuge was established to demonstrate sound fish and wildlife management and wise land and water stewardship.

The Draft Comprehensive Conservation Plan emphasizes the habitat needs of fish and wildlife and expanded opportunities for wildlife-dependent recreation.

Dated: June 15, 2001.
Barbara A. Milne,
Acting Regional Director.

[FR Doc. 01-16249 Filed 6-27-01; 8:45 am]

BILLING CODE 4310-55-M